DEPARTMENT OF AGRICULTURE

Office of the Secretary

Privacy Act of 1974; Amendment of Privacy Act System of Records

AGENCY: Office of the Secretary, U.S. Department of Agriculture.

ACTION: Notice of revised system of records; request for comment.

SUMMARY: In accordance with the Privacy Act of 1974, as amended, the U.S. Department of Agriculture (USDA) is amending an existing Forest Service Privacy Act system of records, USDA/FS-3, Uniform Allowance System.

DATES: Comments must be received in writing, on or before May 9, 2011. The System of Records USDA/FS-3 Uniform Allowance is amended, without further notice, on June 6, 2011, unless modified to respond to comments received from the public and published in a subsequent notice.

ADDRESSES: Questions can be addressed to the Forest Service Privacy Act Officer, USDA Forest Service, 1400 Independence Avenue, SW., Mail Stop 1143, Washington, DC 20250-1143. Comments may also be sent via e-mail to wo_foia@fs.fed.us, or via facsimile to (202) 260-3245.

FOR FURTHER INFORMATION CONTACT: Karren Y. Alexander, Director, USDA Forest Service, Financial Management Systems, 1400 Independence Avenue, SW., Mailstop 1149, Washington, DC 20250-1149, kalexander@fs.fed.us, (703) 605-5199.

SUPPLEMENTARY INFORMATION: Established in 1905, the Forest Service is an agency of the U.S. Department of Agriculture. The mission of the Forest Service is to sustain the health, diversity, and productivity of the Nation's forests and grasslands that encompass 193 million acres of land, to meet the needs of present and future generations. The purpose of this system is to allow the Forest Service to maintain records that identify individuals who apply for and are approved to purchase and wear the Forest Service uniform.

Pursuant to the Privacy Act (5 U.S.C. 552a), the Forest Service has amended the system of records to include new system location, new system manager, new storage type, new routine uses; and new policies and practices for storing, retrieving, accessing, retaining, and disposing of records in the system. This system of records provides information for internal processing purposes to track uniform allowances and expenditures for authorized individuals.

A report of the amended system of records, required by 5 U.S.C. 552a(r) as implemented by Office of Management and Budget (OMB) Circular A-130, was sent to the Chairman, Committee on Homeland Security and Governmental Affairs, United States Senate; the Chairman, Committee on Oversight and Government Reform, U.S. House of Representatives; and the Administrator, Office of Information and Regulatory Affairs, OMB.

Thomas J. Vilsack,
Secretary.

System name:

Uniform Allowance System (UNAW), USDA/FS-3.

Security classification:

None.

System location:

The records in this system are collected in a web-based system located on servers maintained by a Federal contractor in St. Louis, Missouri, and in Omaha, Nebraska. The addresses for the Contractor may be obtained by writing to the Director of Financial Management Systems, USDA Forest Service, 1400 Independence Avenue, SW., Mailstop 1149, Washington, DC 20250-1149. Paper records for use with the uniform system are maintained at Forest Services offices nationwide. The addresses for the Regions, Stations, International Institute for Tropical Forestry, and Forests are listed in 36 CFR Part 200, Subpart A; and the addresses for Districts are in the telephone directory of the applicable locality under the heading, United States Government, Department of Agriculture, Forest Service.

Categories of individuals covered by the system:

Individuals who are authorized a monetary allowance to purchase and wear a Forest Service uniform while performing official duties.

Categories of records in the system:

The system of records consists of completed Forest Service form FS-6100-36 (Uniform Authorization) and information on uniform allowances and expenditures for authorized individuals. Information includes the individual's name, social security number, employee location, allowance category, job code, and current status (active or terminated). The purpose of collecting social security numbers is to administer the uniform allowance program and ensure proper approval, and payment of the individual's uniform allowance.

Authority for maintenance of the system:

5 U.S.C. 5901-5903.

Purpose(s):

Information in this system is used for internal processing purposes to track uniform allowances and expenditures for authorized individuals.

Routine uses of records maintained in the system, including categories of users and the purposes of such uses:

(1) When a record on its face, or in conjunction with other records, indicates a violation or potential violation of law, whether civil, criminal, or regulatory in nature, and whether arising by general statute or particular program statute, or by regulation, rule, or order issued pursuant thereto, disclosure may be made to the appropriate agency, whether Federal, foreign, State, local, or Tribal, or other public authority responsible for enforcing, investigating, or prosecuting such violation or charged with enforcing or implementing the statute, or rule, regulation, or order issued pursuant thereto, if the information disclosed is relevant to any enforcement, regulatory, investigative, or prosecutive responsibility of the receiving entity.

(2) To the Department of Justice when: (a) The agency or any component thereof; or (b) any employee of the agency in his or her official capacity where the Department of Justice has agreed to represent the employee; or (c) the United States Government, is a party to litigation or has an interest in such litigation, and by careful review, the agency determines that the records are both relevant and necessary to the litigation and the use of such records by the Department of Justice is therefore deemed by the agency to be for a purpose that is compatible with the purpose for which the agency collected the records.

(3) To a court or adjudicative body in a proceeding when: (a) The agency or any component thereof; or (b) any employee of the agency in his or her official capacity; or (c) any employee of the agency in his or her individual capacity where the agency has agreed to represent the employee; or (d) the United States Government, is a party to litigation or has an interest in such litigation, and by careful review, the agency determines that the records are both relevant and necessary to the litigation and the use of such records is therefore deemed by the agency to be for a purpose that is compatible with the purpose for which the agency collected the records.

(4) To a Member of Congress or to a Congressional staff member in response to an inquiry of the Congressional office made at the written request of the constituent about whom the record is maintained.

(5) Records from this system of records may be disclosed to the National Archives and Records Administration or to the General Services Administration for records management inspections conducted under 44 U.S.C. 2904 and 2906.

(6) To agency contractors, grantees, experts, consultants, or volunteers who have been engaged by the agency to assist in the performance of a service related to this system of records and who need to have access to the records in order to perform the activity. Recipients shall be required to comply with the requirements of the Privacy Act of 1974, as amended, pursuant to 5 U.S.C. 552a(m).

(7) To appropriate agencies, entities, and persons when: (a) The Forest Service suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to consumer reporting agencies:

None.

Policies and practices for storing, retrieving, accessing, retaining, and disposing of records in the system: Records are maintained in electronic format pursuant to Forest Service file code 6500. Only those specifically authorized individuals can access the information.

Storage:

All electronic information is maintained in a web-based database and stored on secured servers at St. Louis, Missouri, and on backup copies at Omaha, Nebraska. Hard copy records are maintained, retrievable by employee's name, in locked file cabinets in secured office buildings.

Retrievability:

Records are indexed and retrieved electronically using multiple queries including name, social security number, allowance, home unit, or other criteria.

Safeguards:

All records containing personal information are maintained electronically in secured computer rooms. Access to the database and all electronic folders with personal information are password protected and stored on secure servers. Computer access to information provided by applicants is limited to the individual employee, contractor, and the system manager. The review of records once retrieved is limited to the employee, supervisor, contractor, and system manager.

Retention and disposal:

Records are maintained in electronic format under Forest Service file code 6500 established for General Finance and Accounting information. Access to the information is restricted to the individual employee, the contractor, and the system manager.

System manager(s) and address:

Director, USDA, Forest Service, Financial Management Systems, 1400 Independence Avenue, SW., Mailstop 1149, Washington, DC 20250-1149.

Notification procedure:

Individuals may request information regarding this system of records, or information as to whether the system contains records pertaining to them from the System Manager (address above). A request for information should contain name, address, and particulars involved (for example, the date of action giving rise to the inquiry or complaint).

Record access procedures:

Individuals who wish to gain access to or amend records pertaining to them should submit a written request to the System Manager (address above). The envelope should be marked “Privacy Act Request.”

Contesting record procedures:

Same as record access procedures.

Record source categories:

Information in this system is collected voluntarily from individuals, who are authorized Forest Service uniform allowances, and from the individual's supervisor.

Exemptions claimed for the system:

None.

U.S. Department of Agriculture

Privacy Act System of Records

Uniform Allowance System (UNAW) USDA/FS-3

Narrative Statement

The purpose of this system is to provide the U.S. Department of Agriculture's (USDA) Forest Service (FS) to maintain records that identify individuals who apply for and are approved to purchase and wear the Forest Service uniform. The Uniform Allowance System (UNAW) is managed by the Financial Management Systems Staff (FIN). FIN is a staff under the Office of the Chief Financial Officer.

The authority for maintaining this system of records is 5 U.S.C. 5901-5903.

The information gathered is voluntarily submitted by individuals who are authorized to purchase and wear a Forest Service uniform while performing official duties. The system of records consists of completed Forest Service form FS-6100-36 (Uniform Authorization), and information on uniform allowances and expenditures for authorized individuals. Information collected includes the individual's name, social security number, employee location, allowance category, job code, and current status (active or terminated).

The system provides for the following routine use disclosures that are necessary and proper for the agency's administration of its duties in connection with operating the program: disclosures in connection with litigation; for law enforcement purposes; for responses to Congressional inquiries; to the National Archives and Records Administration and the General Services Administration for records inspections; limited disclosure to entities engaged by the agency in the performance of a service; and for disclosure in connection with information security breaches in order to protect the interests of the individuals covered by the system. While these routine uses allow disclosures outside USDA, and so have some impact on privacy of individuals, they are either necessary for carrying out the agency mission and minimizing waste, fraud, and abuse, are required by law, or benefit the subjects of the records. On balance, the needs of the agency and the benefits to the individuals of these disclosures justify the minimal impact on privacy.

All hard copy records are maintained in secured locked file cabinets in agency offices which are locked during non-duty hours. All electronic information is maintained in a web-based database and stored and backed-up on secured servers. Computer access to information on individuals in the system is limited to the individual, contractor, and the system manager. The review of records retrieved is limited to the individual, supervisor, approved contractors, and system manager.

A copy of the form, used to collect the information from individuals, is attached to this report. The system of records is not exempt from any provisions of the Privacy Act.

[FR Doc. 2011-7722 Filed 4-6-11; 8:45 am]

BILLING CODE 3410-11-P